DEPARTMENT OF HOMELAND SECURITY

Agency Information Collection Activities: Solicitation of Proposal Information for Award of Public Contracts, 700-24, 700-25

AGENCY: Department of Homeland Security (DHS).

ACTION: 30-Day notice and request for comments; extension without change of a currently approved collection, 600-0005.

SUMMARY: The Department of Homeland Security, will submit the following information collection request (ICR) to the Office of Management and Budget (OMB) for review and clearance in accordance with the Paperwork Reduction Act of 1995. DHS previously published this information collection request (ICR) in the Federal Register on May 28, 2025 for a 60-day public comment period. No comments were received by DHS. The purpose of this notice is to allow additional 30-days for public comments.

DATES: Comments are encouraged and will be accepted until October 14, 2025. This process is conducted in accordance with 5 CFR 1320.10.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SUPPLEMENTARY INFORMATION: The Department of Homeland Security (DHS) collects information, when necessary, when inviting firms to submit bids, proposals, and offers for public contracts for supplies and service. Using solicitation methods such as Requests for Proposals (RFP), Requests for Information (RFI), and Broad Agency Announcements (BAA), the Government requests information from prospective offerors such as pricing information, delivery schedule compliance, and evidence that the offeror has the resources (both human and financial) to accomplish requirements. The information collection is necessary for compliance with the Homeland Security Acquisition Regulation (HSAR), 48 CFR Chapter 30, and the Small Business Innovative Research (SBIR) and Small Business Technology Transfer (STTR) programs, 15 U.S.C. 628.

The prior information collection request for OMB No. 1600-0005 was approved through November 30, 2021, and includes the following:

• 3052.209-70 Prohibition on Contracts with Corporate Expatriates (Required in all solicitations and contracts) The offeror must disclose whether it is a foreign incorporated entity that should be treated as an inverted domestic corporation.

• 3052.209-71 Reserve Officer Training Corps and Military Recruiting on Campus (Required in all solicitations and contracts with institutions of higher education) Requires that the Contractor represent that it does not now have, and agrees that during performance of the contract that it will not adopt, any policy or practice described in paragraph (b) of the clause.

• 3052.209-72 Organizational Conflict of Interest, paragraphs (c), (d) and (e), (Required in all solicitations and contracts where a potential organizational conflict of interest exists and mitigation may be possible) The offeror must disclose whether it is aware of any facts which create any actual or potential organizational conflicts of interest; and, provide information as required by the Government and a mitigation plan relating to the conflict, if applicable.

• 3052.209-74 Limitations on Contractors Acting as Lead System Integrators (Required in solicitations for the acquisition of a major system when the acquisition strategy envisions the use of a lead system integrator) The offeror must disclose whether it proposes to perform this contract as a lead system integrator with system responsibility, and whether it has a direct financial interest in the system that is the subject of the solicitation; and, provide evidence, as needed.

• 3052.209-76 Prohibition on Federal Protective Service (FPS) Guard Services Contracts with Business Concerns Owned, Controlled, or Operated by an Individual Convicted of a Felony, paragraphs (a) through (g), (Required in in all solicitations and contracts for FPS guard services) The offeror must disclose whether it is owned, operated or controlled by an individual convicted of any felony. A business concern owned, operated or controlled by an individual convicted of any felony may submit an award request to the Government. The request must include information that is considered personally identifiable information, and any additional information the Government deems necessary.

• 3052.215-70 Key Personnel and Facilities (Required in solicitations and contracts when the selection for award is substantially based on the offeror's possession of special capabilities regarding personnel or facilities) Before removing or replacing any of the specified individuals or facilities, the offeror must notify the Government, in writing, before the change becomes effective.

• 3052.219-72 Evaluation of Prime Contractor Participation in the DHS Mentor-Protégé Program (Required in all solicitations containing (HSAR) 48 CFR 3052.219-71, DHS Mentor-Protégé Program and (FAR) 48 CFR 52.219-9 Small Business Subcontracting Plan) The offeror must provide a signed letter of mentor-protégé agreement, if it wishes to receive credit under the source selection factor.

• 3052.247-70 F.o.b. Origin Information (Required in solicitations as appropriate) The offeror must provide information related to the offeror's shipping point.

The DHS Science and Technology (S&T) Directorate issues BAAs soliciting when white papers and proposals from the public. DHS S&T evaluates white papers and proposals received in response to a DHS S&T BAA using the evaluation criteria specified in the BAA through a peer or scientific review process in accordance with FAR 35.016(d). Unclassified white papers and proposals are typically collected via the DHS S&T BAA secure website, while classified white papers and proposals must be submitted via proper classified courier or proper classified mailing procedures as described in the National Industrial Security Program Operating Manual (NSPOM).

Federal agencies with an annual extramural research and development (R&D) budget exceeding $100 million are required to participate in the SBIR Program. Similarly, Federal agencies with an extramural R&D budget exceeding $1 billion are required to participate in the STTR Program. Federal agencies who participate in the SBIR and STTR programs must collect information from the public to meet:

(1) Applicable reporting requirements under 15 U.S.C. 638(b)(7), (g)(8), (i), (j)(1)(E), (j)(3)(C), (l), (o)(10), and (v);

(2) The requirement to maintain both a publicly accessible database of SBIR/STTR award information and a government database of SBIR/STTR award information for SBIR and STTR program evaluation under 15 U.S.C. 638g(10, (k), (o) (9), and (o)(15); and

(3) Requirements for public outreach under 15 U.S.C. 638(j)(2)(F), (o)(14), and (s).

DHS is seeking to renew this collection, and revise it to add, for purposes of entering into other transaction agreements pursuant to 6 U.S.C. 391, 6 U.S.C. 596(1), and 49 U.S.C. 106(l)(6), Form 700-24, Other Transaction Agreement Solicitation, and Form 700-25, Other Transaction Agreement Solicitation Amendment. On the forms, respondents submit an Employer Identification Number, as well as the business' name, address and title. Respondents must also identify the authorized business representative's personal name and must include a signature.

The information being collected is used by the Government's contracting officers and other acquisition personnel, including technical and legal staff to determine the adequacy of technical and management approach, experience, responsibility, responsiveness, and expertise of the firms submitting offers; the identification of members of the public (i.e., small businesses) who qualify for and are interested in participating in the DHS SBIR Program; and, provide the DHS SBIR Program Office necessary and sufficient information to determine whether proposals submitted by the public to the DHS SBIR Program meet the criteria for consideration under the program.

Failure to collect this information would adversely affect the quality of products and services DHS receives from contractors. Potentially, contracts would be awarded to firms without sufficient experience and expertise, thereby placing the Department's operations in jeopardy. Defective and inadequate contractor deliverables would adversely affect DHS's fulfillment of the mission requirements in all areas. Additionally, the Department would be unsuccessful in identifying small businesses with research and development (R&D) capabilities, which would adversely affect the mission requirements in this area.

Many sources of the requested information use automated word processing systems, databases, and web portals to facilitate preparation of material to be submitted and to post and collect information. It is commonplace within many of DHS's Components for submissions to be electronic as a result of implementation of e-Government initiatives.

Information technology (i.e., electronic web portal) is used in the collection of information to reduce the data gathering and records management burden. DHS uses a secure website the public can use to propose SBIR research topics and submit proposals in response to SBIR solicitations. In addition, DHS uses a web portal to review RFIs and register to submit a white paper or proposal in response to a specific BAA. The data collection forms standardize the collection of information that is necessary and sufficient for the DHS SBIR Program Office to meet its requirements under 15 U.S.C. 638.

This information collection required by the HSAR and the SBIR and STTR programs may or may not involve small business contractors, depending on the particular transaction. The burden applied to small businesses has been reduced to the least burdensome commensurate with the DHS need for the information. In certain cases, information collection is done via a secure website which is intended to minimize burden for businesses (including small businesses) and other for-profit entities, and not-for-profit institutions. Small businesses and other small entities will be able to enter identifying information and subsequently update rather than resubmit the information via the internet.

Less frequent incidence of collecting such information as offerors' technical approach, management approach, experience statements, and resumes indicating level of expertise would negatively affect the quality of products and services DHS received from contractors. Potentially, contracts would be awarded to firms without sufficient experience and expertise, thereby placing the Department's operations in jeopardy.

Additionally, DHS collects information that is both necessary and sufficient to comply with 15 U.S.C. 638 and receive white papers and proposals from the public in response to BAAs. Failure to allow the public to submit information would diminish the ability of the DHS SBIR Program Office to meet its obligation for outreach as required by 15 U.S.C. 638, evaluate white papers and proposals in accordance with the criteria in the BAA and provide the respondents with the results of the evaluation.

DHS/ALL/PIA-006 General Contact Lists dated June 15, 2007 covers the basic contact information that must be collected for DHS. Other information collected will typically pertain to the contract itself, and not individuals. All information for this information collection is submitted voluntarily. However, sensitive information (e.g., felony conviction information) may also be collected through this information collection. Due to this sensitivity, and the sensitivities regarding the procurement process as a whole, a new PIA is required to document and identify any potential risks associated with collecting this information.

There is no assurance of confidentiality provided to the respondents.

The burden estimates are based upon definitive proposals reported by DHS and its Components to the Federal Procurement Data System (FPDS) for FY 2019, and, for the forms, data reported by contracting activities related to single source DHS other transaction awards and modifications issued in FY 2019. No program changes occurred and there have been no changes to the information being collected. However, the burden was adjusted to reflect an agency adjustment increase of 13,206 in the number of respondents within DHS for FY 2019, to include the number of respondents added as a result of the new forms, as well as an increase in the average hourly wage rate.

The Office of Management and Budget is particularly interested in comments which:

5. Evaluate whether the proposed collection of information is necessary for the proper performance of the functions of the agency, including whether the information will have practical utility;

6. Evaluate the accuracy of the agency's estimate of the burden of the proposed collection of information, including the validity of the methodology and assumptions used;

7. Enhance the quality, utility, and clarity of the information to be collected; and

8. Minimize the burden of the collection of information on those who are to respond, including through the use of appropriate automated, electronic, mechanical, or other technological collection techniques or other forms of information technology, e.g., permitting electronic submissions of responses.

Analysis

Agency: Department of Homeland Security (DHS).

Title: Solicitation of Proposal Information for Award of Public Contracts.

OMB Number: 1600-0005.

Frequency: On occasion.

Affected Public: Private Sector.

Number of Respondents: 130,418.

Estimated Time Per Respondent: 1.8.

Total Burden Hours: 1,358,512.

Robert Porter Dorr,
Executive Director, Business Management Directorate.

[FR Doc. 2025-17661 Filed 9-11-25; 8:45 am]

BILLING CODE 9112-FL-P